FEDERAL COMMUNICATIONS COMMISSION

Notice of Public Information Collection(s) Being Reviewed by the Federal Communications Commission

February 12, 2004.

SUMMARY: The Federal Communications Commission, as part of its continuing effort to reduce paperwork burden invites the general public and other Federal agencies to take this opportunity to comment on the following information collection(s), as required by the Paperwork Reduction Act (PRA) of 1995, Public Law No. 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before March 25, 2004. If you anticipate that you will be submitting PRA comments, but find it difficult to do so within the period of time allowed by this notice, you should advise the contact listed below as soon as possible.

ADDRESSES: Direct all Paperwork Reduction Act (PRA) comments to Judith B. Herman, Federal Communications Commission, Room 1-C804, 445 12th Street, SW., Washington, DC 20554 or via the Internet to Judith-B.Herman@fcc.gov.

FOR FURTHER INFORMATION CONTACT: For additional information or copies of the information collection(s), contact Judith B. Herman at (202) 418-0214 or via the Internet at Judith-B.Herman@fcc.gov.

SUPPLEMENTARY INFORMATION: OMB Control No.: 3060-0496.

Title: ARMIS Operating Data Report.

Report No.: FCC Report 43-08.

Type of Review: Extension of a currently approved collection.

Respondents: Business or other for-profit.

Number of Respondents: 55.

Estimated Time Per Response: 139 hours.

Frequency of Response: Annual reporting requirement.

Total Annual Burden: 7,645 hours.

Total Annual Cost: N/A.

Needs and Uses: The ARMIS Report 43-08 collects network operating data in a consistent format. It also monitors network growth, usage, and reliability. Section 11 of the Communications Act of 1934, as amended, 47 U.S.C. 161, requires the Commission, in every even-numbered year beginning in 1998, to review its regulations applicable to providers of telecommunications services to determine whether the regulations are no longer in the public interest due to meaningful economic competition between providers of such services and whether such regulations should be repealed or modified. Section 11 further instructs the Commission to repeal or modify any regulation it determines to be no longer in the public interest. The Commission uses an indexed revenue threshold to determine which carriers are required to file the ARMIS reports. In this collection, the Commission revised the number of carriers filing this ARMIS report from 53 to 55 respondents to reflect two carriers that exceeded the indexed revenue threshold. The Commission is now seeking the full three year OMB approval for the information collection with no changes.

OMB Control No.: 3060-0512.

Title: ARMIS Annual Summary Report.

Report No.: FCC Report 43-01.

Type of Review: Revision of a currently approved collection.

Respondents: Business or other for-profit.

Number of Respondents: 119.

Estimated Time Per Response: 89 hours.

Frequency of Response: Annual reporting requirement.

Total Annual Burden: 10,591 hours.

Total Annual Cost: N/A.

Needs and Uses: The Annual Summary Report contains financial and operating data and is used to monitor the incumbent local exchange carrier industry and to perform routine analyses of costs and revenues on behalf of the Commission. As a result of Part 32 accounts changes, the Commission is reducing the burden hours in this information collection to reflect the addition, elimination, and consolidation of a number of reporting rows in this report. The Commission is also revising the number of carriers filing this ARMIS report from 115 to 119. The Commission uses an indexed revenue threshold to determine which carriers are required to file the ARMIS reports. That revenue threshold is currently $121 million.

OMB Control No.: 3060-0513.

Title: ARMIS Joint Cost Report.

Report No.: FCC Report 43-03.

Type of Review: Revision of a currently approved collection.

Respondents: Business or other for-profit.

Number of Respondents: 85.

Estimated Time Per Response: 50 hours.

Frequency of Response: Annual reporting requirement.

Total Annual Burden: 4,250 hours.

Total Annual Cost: N/A.

Needs and Uses: The Joint Cost Report is needed to administer the Commission's joint cost rules contained in Part 64 and to analyze data in order to prevent cross-subsidization of non-regulated operations by the regulated operations of Tier 1 carriers. As a result of Part 32 account changes, the Commission is reducing the total annual burden hours to reflect the addition, elimination, and consolidation of a number of reporting rows in this report.

OMB Control No.: 3060-0395

Title: The ARMIS USOA Report (ARMIS Report 43-02); The ARMIS Service Quality Report (ARMIS Report 43-05); and the ARMIS Infrastructure Report (ARMIS Report 43-07).

Report Nos.: FCC Reports 43-02, 43-05 and 43-07.

Type of Review: Revision of a currently approved collection.

Respondents: Business or other for-profit.

Number of Respondents: 51.

Estimated Time Per Response: 5.7-844 hours.

Frequency of Response: Annual reporting requirement and recordkeeping requirement.

Total Annual Burden: 21,004 hours.

Total Annual Cost: N/A.

Needs and Uses: FCC Report 43-02 contains company-wide data for each account specified in the Uniform System of Accounts (USOA). It provides the annual operating results of the carriers' activities for every account in the USOA. As a result of Part 32 account changes, the Commission is reducing the burden hours to reflect the addition, elimination, and consolidation of a number of reporting rows as well as the elimination of a number of columns in this report. FCC Report 43-05 collects data at the study area level and holding company level and is designed to capture trends in service quality information in the areas of service quality under price cap regulation. It provides service quality information in the areas of interexchange access service installation and repair intervals, local service installation and repair intervals, trunk blockage and total switch downtime for price cap companies. There are no changes to this report; however, we are increasing the number of respondents by two to account for an acquisition of price cap study areas and a new price cap carrier. FCC Report 43-07 is designed to capture trends in telephone industry infrastructure development under price cap regulation. It provides switch deployment and capabilities data. There are no changes to this report for this submission to the OMB.

Federal Communications Commission.
Marlene H. Dortch,
Secretary.

[FR Doc. 04-3974 Filed 2-23-04; 8:45 am]

BILLING CODE 6712-01-P